FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Benjamin W. McDonough, Deputy Secretary of the Board, 20th Street and Constitution Avenue NW, Washington DC 20551-0001, not later than February 17, 2026.

A. Federal Reserve Bank of Atlanta (Erien O. Terry, Assistant Vice President) 1000 Peachtree Street NE, Atlanta, Georgia 30309. Comments can also be sent electronically to Applications.Comments@atl.frb.org:

1. Dinesh V. Raju, Nita K. Parikh, Kiran J. Parikh, Mukund C. Raja, Dhaval S. Shah, Monal K. Shah; 455 Trust, Meena J. Shah and Deep J. Shah, individually and as co-trustees; 475 Trust, Jayendrakumar J. Shah and Shveta Shah Raju, individually and as co-trustees; 4580 Trust, Shveta Shah Raju and Asha Shah Prasad, individually and as co-trustees; 3490 Trust, Asha Shah Prasad and Deep J. Shah, individually and as co-trustees; 2764 Trust, Deep J. Shah and Shveta Shah Raju, individually and as co-trustees; all of Duluth, Georgia; Purna Nitin Parikh Rev Living Trust, Purna N. Parikh, inidvidually and as trustee, both of Johns Creek, Georgia; and Samir N. Sheth and Rupa S. Sheth, both of Lilburn, Georgia; as the Shah Family Control Group, a group acting in concert, to retain voting shares of Touchmark Bancshares, Inc., and thereby indirectly retain voting shares of Touchmark National Bank, both of Alpharetta, Georgia. In addition, Deep J. Shah to acquire additional voting shares of Touchmark Bancshares, Inc.

Board of Governors of the Federal Reserve System.
Michele Taylor Fennell,
Associate Secretary of the Board.

[FR Doc. 2026-02080 Filed 1-30-26; 8:45 am]

BILLING CODE 6210-01-P